NUCLEAR REGULATORY COMMISSION

[Docket No. NRC-2010-0119]

Agency Information Collection Activities: Proposed Collection; Comment Request

AGENCY: U. S. Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: “NRC Forms 366, 366A, 366B, `Licensee Event Report' ”.

2. Current OMB approval number: 3150-0104.

3. How often the collection is required: On occasion, as defined reactor events are reportable as they occur.

4. Who is required or asked to report: Holders of operating licenses for commercial nuclear power plants.

5. The number of annual respondents: 104.

6. The number of hours needed annually to complete the requirement or request: 32,000 (25,600 reporting + 6,400 recordkeeping). This is estimated to be 80 hours for each of 400 reports annually.

7. Abstract: With NRC Forms 366, 366A, and 366B, the NRC collects reports of the types of reactor events and problems that are believed to be significant and useful to the NRC in its efforts to identify and resolve possible threats to the public health and safety, or to the environment. The information reported on NRC Forms 366, 366A, and 366B is used by the NRC to confirm licensing bases, study potentially generic safety problems, assess trends and patterns of operating experience, monitor performance, identify precursors of more significant events, and provide operating experience feedback to the industry. These forms are designed to provide the information necessary for engineering studies of operational anomalies and trends and patterns analysis of abnormal occurrences. The same information is used for other analytic procedures that aid in identifying accident precursors.

Submit, by June 1, 2010, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2010-0119. You may submit your comments by any of the following methods. Electronic comments: Go to http://www.regulations.gov and search for Docket No. NRC-2010-0119. Mail comments to NRC Clearance Officer, Tremaine U. Donnell (T-5 F53), U.S. Nuclear Regulatory Commission, Washington, DC 20555-0001. Questions about the information collection requirements may be directed to the NRC Clearance Officer, Tremaine U. Donnell (T-5 F53), U.S. Nuclear Regulatory Commission, Washington, DC 20555-0001, by telephone at 301-415-6258, or by e-mail to INFOCOLLECTS.Resource@NRC.GOV.

Dated at Rockville, Maryland, this 25th day of March 2010.
For the Nuclear Regulatory Commission.
Tremaine Donnell,
NRC Clearance Officer, Office of Information Services.

[FR Doc. 2010-7476 Filed 4-1-10; 8:45 am]

BILLING CODE 7590-01-P